DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Cross-Site Accountability Assessment of the Residential Treatment for Pregnant and Postpartum Women and Their Minor Children Program (PPW)—New

The Substance Abuse and Mental Health Services Administration (SAMHSA), Center for Substance Abuse Treatment (CSAT), has funded the Cross-Site Accountability Assessment of the Residential Treatment for Pregnant and Postpartum Women and Their Minor Children Program (PPW). In addition to assessing project activities, the purpose of the PPW is to expand the availability of comprehensive, high quality residential treatment services for pregnant and postpartum women who suffer from alcohol and other drug use problems, and for their infants and children impacted by the perinatal and environmental effects of maternal substance use and abuse.

Section 508 [290bb-1] (o) of the Public Health Service Act mandates the evaluation and dissemination of findings of residential treatment programs for pregnant and postpartum women. This cross-site accountability assessment will assess project activities implemented for these services.

With input from multiple experts in the field of women and children's treatment programs, the projects selected, by consensus, a common core of data collection instruments that will be used for program and treatment planning, local evaluations, and for this cross-site accountability evaluation. For mothers, five different interview instruments will be used: (1) Child Data Collection Tool, Part 1 (personal background) and Part 2 (infant and child background); (2) Child Well-Being Scale #24 (brief observation of mother/child interaction), (3) Ferrans and Powers Quality of Life Index; (4) BASIS 32 (behavioral health assessment); and (5) Allen's Barriers to Treatment. For children of all ages, program staff will collect information from observation, interview, and records review. Children's data collection tools include: (1) Child Well-Being Scales (all children), (2) Denver Developmental Screening Inventory II (ages 1m-6y), (3) Middle Childhood Developmental Assessment Guide (ages 7-10), (4) Adolescent Development Assessment Guide (ages 11-17), and (5) the CRAFFT substance abuse screening instrument (ages 14-17). Additional records review will be conducted by program staff on all program participants at discharge.

All data will be collected using a combination of observation, records review, and computer-based personal interviews. CSAT will use this data for this accountability assessment to influence public policy, research, and programming as they relate to the provision of women's services. Data produced by this study will provide direction to the type of technical assistance that will be required by service providers of women's programming. In addition, the data will be used by individual grantees to support progress report efforts.

Tables A-1 through A-4 below show the estimated annual response burden for this collection.

Table A-1.—Cost Burden for Women's Interviews by Staff
Form name | Respondent | Estimated number of respondents | Responses per respondent | Total responses | Hours per response | Total hour burden
Child Data Collection Tool ¹ | Mother interview | 414 | 3.23 | 1,337 | .83 | 1,110
Child Well-Being Scale #24 ² | Mother observation | 414 | 4 | 1,656 | .03 | 50
Allen's Barriers to Treatment ³ | Mother interview | 414 | 3 | 1,242 | .33 | 410
Ferrans and Powers Quality of Life Index ³ | Mother interview | 414 | 3 | 1,242 | .50 | 621
BASIS 32 ³ | Mother interview | 414 | 3 | 1,242 | .25 | 311
Total for Women: | Mother | 414 |  | 6,719 |  | 2,502
¹ Based on admission interviews of 414 mothers regarding self plus each of her estimated 2.23 children.
² Based on observations of 414 mothers using one scale item at admission, 3 months, 6 months, and at the 12 month followup.
³ Based on 414 mothers at admission, 6 months, and 12 months.

Table A-2.—Cost Burden for Infant and Minor Child Observations and Interviews by Project Staff
Form name | Respondent | Estimated number of respondents | Responses per respondent | Total responses | Hours per response | Total hour burden
Child Well-Being Scales (ages 0 through 17) ⁴ | Child observation and records | 924 | 4 | 3,696 | .33 | 1,220
Denver Developmental Screening Inventory II (ages 1 month through 6 years) ⁵ | Child interview and observation | 462 | 3 | 1,386 | .33 | 457
Middle Childhood Developmental Assessment Guide (ages 7 through 10) ⁶ | Child interview and observation | 168 | 3 | 504 | .33 | 166
Adolescent Development Assessment Guide (ages 11 through 17) ⁷ | Child interview and observation | 294 | 3 | 882 | .33 | 291
CRAFFT (ages 14 through 17) ⁸ | Child interview | 168 | 3 | 504 | .08 | 40
Total for Minor children/Staff: |  | 924 |  | 6,972 |  | 2,174
⁴ Based on 924 minor children at intake, 3 months, 6 months, and at the 12 month followup.
⁵ Based on all minor children aged 1 month through 6 years at admission, 3 months, and 6 months.
⁶ Based on all minor children ages 7 through 10 years at admission, 3 months, and 6 months.
⁷ Based on all minor children ages 11 through 17 at admission, 3 months, and 6 months.
⁸ Based on all minor children ages 14 through 17 at admission, 3 months, and 6 months.

Table A-3.—Cost Burden for Records Review by Staff
Form name | Respondent | Estimated number of respondents | Responses per respondent | Total responses | Hours per response | Total hour burden
Women's Discharge Tool ⁹ | Records review | 414 | 1 | 414 | .25 | 104
Children's Discharge Tool ¹⁰ | Records review | 924 | 1 | 924 | .25 | 231
Total for Staff: |  | 1,338 |  | 1,338 |  | 335
⁹ Based on treatment records review on all mothers at discharge. The discharge instrument will be completed for all women who entered treatment regardless of treatment completion rate.
¹⁰ Based on treatment records review on all infants and minor children at discharge. The discharge instrument will be completed for all minor children who entered treatment regardless of treatment completion rate.

Table A-4.—Total Cost Burden
Form name | Respondent | Estimated number of respondents | Responses per respondent | Total responses | Hours per response | Total hour burden
Total for Women |  | 414 |  | 6,719 |  | 2,502
Total for Minor Children/Staff |  | 924 |  | 6,972 |  | 2,174
Total for Staff |  | 1,338 |  | 1,338 |  | 335
Total |  | 2,676 |  | 15,029 |  | 5,011

Written comments and recommendations concerning the proposed information collection should be sent by March 24, 2005, to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: January 24, 2005.
Anna Marsh,
Executive Officer, SAMHSA.

[FR Doc. 05-3290 Filed 2-18-05; 8:45 am]

BILLING CODE 4162-20-P